DEPARTMENT OF AGRICULTURE

Grain Inspection, Packers and Stockyards Administration

Designation for the Amarillo, TX; Cairo, IL; State of Louisiana; State of North Carolina and Belmond, IA; Minnesota; New Jersey and New York Areas

AGENCY: Grain Inspection, Packers and Stockyards Administration (GIPSA), USDA.

ACTION: Notice.

SUMMARY: GIPSA is announcing the designations of Amarillo Grain Exchange, Inc. (Amarillo); Cairo Grain Inspection Agency, Inc. (Cairo); Louisiana Department of Agriculture and Forestry (Louisiana); North Carolina Department of Agriculture (North Carolina) and D.R. Schaal Agency, Inc. (Schaal) to provide official services under the United States Grain Standards Act (USGSA), as amended.

DATES: Effective Date: October 1, 2016.

ADDRESSES: Sharon Lathrop, Compliance Officer, USDA, GIPSA, FGIS, QACD, 10383 North Ambassador Drive, Kansas City, MO 64153.

FOR FURTHER INFORMATION CONTACT: Sharon Lathrop, 816-891-0415, Sharon.L.Lathrop@usda.gov or FGIS.QACD@usda.gov.

Read Applications: All applications and comments are available for public inspection at the office above during regular business hours (7 CFR 1.27(c)).

SUPPLEMENTARY INFORMATION: In the August 24, 2016, and August 30, 2016, Federal Register (81 FR 57882 through 57885 and 59598), GIPSA requested applications for designation to provide official services in the geographic areas presently serviced by Amarillo, Cairo, Louisiana, North Carolina, and Schaal. Applications were due by September 23, 2016, for the areas presently serviced by Amarillo, Cairo, Louisiana, and North Carolina, and September 29, 2016, for the area presently serviced by Schaal.

The current official agencies: Amarillo, Cairo, Louisiana, North Carolina, and Schaal were the only applicants for designation to provide official services in these areas. As a result, GIPSA did not ask for additional comments.

GIPSA evaluated the designation criteria in section 79(f) of the USGSA (7 U.S.C. 79(f)) and determined that Amarillo, Cairo, Louisiana, North Carolina, and Schaal are qualified to provide official services in the geographic areas specified in the Federal Register on August 24 and 30, 2016. This designation to provide official services in the specified areas of Amarillo, Cairo, Louisiana, North Carolina, and Schaal is effective October 1, 2016, to September 30, 2021.

Interested persons may obtain official services by contacting these agencies at the following telephone numbers:

Official agency | Headquarters location and telephone | Designation start | Designation end
Amarillo | Amarillo, TX; 806-372-8511 | 10/1/2016 | 9/30/2021
Cairo | Cairo, IL; 618-734-0689 | 10/1/2016 | 9/30/2021
Louisiana | Baton Rouge, LA; 225-922-1341 | 10/1/2016 | 9/30/2021
North Carolina | Raleigh, NC; 919-202-5774 | 10/1/2016 | 9/30/2021
Schaal | Belmond, IA; 641-444-3122 | 10/1/2016 | 9/30/2021

Section 79(f) of the USGSA authorizes the Secretary to designate a qualified applicant to provide official services in a specified area after determining that the applicant is better able than any other applicant to provide such official services (7 U.S.C. 79(f)).

Larry Mitchell,
Administrator, Grain Inspection, Packers and Stockyards Administration.

[FR Doc. 2016-29705 Filed 12-9-16; 8:45 am]

BILLING CODE 3410-KD-P